DEPARTMENT OF COMMERCE

International Trade Administration

[A-570-914]

Light-Walled Rectangular Pipe and Tube from the People's Republic of China: Final Results of the 2008-2009 Antidumping Duty Administrative Review

AGENCY: Import Administration, International Trade Administration, Department of Commerce.

SUMMARY: On May 14, 2010, the Department of Commerce (the “Department”) published the preliminary results of the administrative review of the antidumping duty order on light-walled rectangular pipe and tube from the People's Republic of China (“PRC”), covering the period January 20, 2008, through July 31, 2009. See Light-Walled Rectangular Pipe and Tube from the People's Republic of China: Preliminary Results of the 2008-2009 Antidumping Duty Administrative Review, 75 FR 27308 (May 14, 2010) (“Preliminary Results”). We gave interested parties an opportunity to comment on the Preliminary Results. After reviewing the interested parties' comments, we made changes to our calculations for the final results of the review. The final dumping margin for this review is listed in the “Final Results of Review” section below.

EFFECTIVE DATE: September 21, 2010.

FOR FURTHER INFORMATION CONTACT: Melissa Blackledge or Howard Smith, AD/CVD Operations, Office 4, Import Administration, International Trade Administration, U.S. Department of Commerce, 14th Street and Constitution Avenue, NW, Washington, DC 20230; telephone (202) 482-3518 or (202) 482-5193, respectively.

SUPPLEMENTARY INFORMATION:

Background

Following the Preliminary Results, the Department issued additional supplemental questionnaires to Sun Group Inc.'s (“respondent”) U.S. affiliated importer FitMAX Inc. (“FitMAX”) on June 2, 2010 and June 16, 2010. FitMAX responded on June 7, 2010, and June 21, 2010, respectively. Respondent submitted post-preliminary surrogate value comments on June 1, 2010, and on June 11, 2010, petitioners¹ submitted rebuttal comments. On June 28, 2010, respondent submitted a case brief, and on July 6, 2010, petitioners submitted a rebuttal brief. None of the interested parties requested a hearing.

¹ Petitioners are Atlas Tube, Bull Moose Tube Company and Searing Industries, Inc.

As explained in the memorandum from the Deputy Assistant Secretary for Import Administration, the Department exercised its discretion to toll deadlines for the duration of the closure of the Federal Government from February 5, through February 12, 2010. Thus, all deadlines in this segment of the proceeding were extended by seven days. The revised deadline for the final results of this administrative review was thus extended to September 11, 2010. See Memorandum to the Record from Ronald Lorentzen, DAS for Import Administration, regarding “Tolling of Administrative Deadlines As a Result of the Government Closure During the Recent Snowstorms,” dated February 12, 2010.

On June 9, 2010, the Department notified parties that as a result of the recent decision in Dorbest Limited et al. v. United States, No. 2009-1257, -1266 (Fed. Cir. May 14, 2010), issued by the United States Court of Appeals for the Federal Circuit (“CAFC”), the Department would be reconsidering its valuation of labor in this review. On July 22, 2010, the Department placed export data on the record of the review and gave parties until July 27, 2010, to comment on the narrow issue of the labor wage value in light of the CAFC's decision. On July 27, 2010, respondent submitted comments on the labor wage issue. No other party commented.

Scope of the Order

The merchandise subject to this order is certain welded carbon-quality light-walled steel pipe and tube, of rectangular (including square) cross section, having a wall thickness of less than 4 mm.

The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to the order is currently classified under the Harmonized Tariff Schedule of the United States (“HTSUS”) subheadings 7306.61.50.00 and 7306.61.70.60.

While HTSUS subheadings are provided for convenience and Customs purposes, our written description of the scope of the order is dispositive.

Analysis of Comments Received

All issues raised in the case and rebuttal briefs are addressed in the “Issues and Decision Memorandum for the Final Results in the Antidumping Duty Administrative Review of Light-Walled Rectangular Pipe and Tube from the People's Republic of China” (“Issues and Decision Memorandum”), which is dated concurrently with and hereby adopted by this notice. A list of the issues that parties raised and to which we responded in the Issues and Decision Memorandum is attached to this notice as an Appendix. The Issues and Decision Memorandum is a public document that is on file in the Central Records Unit in room 7046 in the main Department building, and is accessible on the web at http://www.ia.ita.doc.gov/frn. The paper copy and electronic version of the memorandum are identical in content.

Changes Since the Preliminary Results

Based on our analysis of the comments received, we made the following changes in calculating the respondent's dumping margin: (1) we made changes to the surrogate value for labor; and (2) we excluded delivery and website expenses from U.S. indirect selling expenses (“ISE”) used to calculate the ISE ratio. For further details, see the accompanying “Issues and Decision Memorandum,” and the memoranda entitled “Analysis for the Final Results of Antidumping Duty Administrative Review of Light-Walled Rectangular Pipe and Tube from the People's Republic of China: Sun Group Inc.,” and “2008-2009 Antidumping Duty Administrative Review of Light-Walled Rectangular Pipe and Tube from the People's Republic of China: Surrogate Values for the Final Results” memoranda, all dated September 13, 2010.

Final Results of Review

We determine that the following margin exists for the period January 20, 2008, through July 31, 2009:

Light-Walled Rectangular Pipe and Tube from the PRC
Company | Weighted-Average Margin (Percent)
The Sun Group Inc. | 27.12

Assessment Rates

The Department has determined, and U.S. Customs and Border Protection (“CBP”) shall assess, antidumping duties on all appropriate entries. The Department intends to issue assessment instructions to CBP 15 days after the date of publication of the final results of review.

Cash Deposit Requirements

The following cash-deposit requirements will apply to all shipments of light-walled rectangular pipe and tube from the PRC entered, or withdrawn from warehouse, for consumption on or after the publication date of the final results of this administrative review, as provided by section 751(a)(1) of the Tariff Act of 1930, as amended (the “Act”): (1) the cash deposit rate for the reviewed company named above will be the rate for that firm established in the final results of this administrative review; (2) for any previously reviewed or investigated PRC or non-PRC exporter, not covered in this review, with a separate rate, the cash deposit rate will be the company-specific rate established in the most recent segment of this proceeding; (3) for all other PRC exporters, the cash deposit rate will be the PRC-wide rate which is 264.64 percent; and (4) the cash-deposit rate for any non-PRC exporter of subject merchandise from the PRC will be the rate applicable to the PRC exporter that supplied that exporter. These deposit requirements, when imposed, shall remain in effect until further notice.

Notification to Interested Parties

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a final reminder to parties subject to the administrative protective order (“APO”) of their responsibility concerning the return or destruction of proprietary information disclosed under the APO in accordance with 19 CFR 351.305. Timely written notification of the return or destruction of APO materials or conversion to judicial protective order is hereby requested. Failure to comply with the regulations and the terms of an APO is a sanctionable violation.

This notice of final results is issued and published in accordance with sections 751(a)(1) and 777(i)(1) of the Act.

Dated: September 13, 2010.
Ronald K. Lorentzen.
Deputy Assistant Secretary for Import Administration.

[FR Doc. 2010-23548 Filed 9-20-10; 8:45 am]

BILLING CODE 3510-DS-S